DEPARTMENT OF VETERANS AFFAIRS

Advisory Committee on Women Veterans, Notice of Meeting

The Department of Veterans Affairs gives notice under Public Law 92-463 that the Advisory Committee on Women Veterans will conduct a site visit to the VA Boston Healthcare System. The site visit will be held June 25-29, 2001, from 8 a.m. until 4 p.m., at the Veterans Integrated Systems Network (VISN 1), 150 S. Huntington Avenue, Boston, MA 02130.

The purpose of the Committee is to advise the Secretary of Veterans Affairs regarding the needs of women veterans with respect to health care, rehabilitation, compensation, outreach, and other programs and activities administered by the Department of Veterans Affairs designed to meet such needs. The Committee will make recommendations to the Secretary regarding such activities.

All sessions will be open to the public. Those who plan to attend should contact Ms. Maryanne Carson, Department of Veterans Affairs, Center for Women Veterans, 810 Vermont Avenue, NW, Washington, DC 20420, at (202) 273-6193 before the meeting. The tentative agenda is as follows:

Monday 6/25

VISN 1 Network Briefing

Contact Person: Susan McKenzie, COO, VISN 1, 200 Springs Road, Building 61, Bedford, MA 01730 (781-687-3411)

8 a.m.—Meet Committee at hotel and travel to Bedford

9:30 a.m.—Arrive Bedford, Building 61

9:45 a.m.—Overview of network initiatives for women, facilities in the network, strategic plan

10:45 a.m.—Break

11 a.m.—Women Veterans Coordinators Council briefing

12 noon—Lunch

1 p.m.—Women Veterans Coordinators Council briefing continued

2 p.m.—Questions & Answer Period

2:30 p.m.—Break (refreshments)

2:45 p.m.—Health Services Research and Development Overview of research and current study; Katherine Skinner, Ph.D., 200 Springs Road, Bedford, MA 01730 (781-687-2866)

4 p.m.—Return to Boston

Tuesday 6/26

Jamaica Plain Campus

Contact Person: Pat Robinson, LICSW, VA Boston Healthcare System, 150 S. Huntington Avenue, Boston, MA 02130 (617-232-9500 x4120)

7:45 a.m.—Pick up at hotel

8:15 a.m.—Meeting with Director and staff. Overview of VA Boston Healthcare System

8:45 a.m.—Meet with Women's Health Council: Presentation on services for women and mission of Council

9:45 a.m.—Break

10 a.m.—Vet Center: (Tom Hannon & Jen Erbe Leggett) Update on sexual trauma counseling

10:30 a.m.—Tour Women Veterans Health Center

11 a.m.—Women's Health Sciences Division: (Lynda & Dan King) Overview of current research

12 noon—Lunch

1:30 p.m.—Persian Gulf Research

2 p.m.—Women's Stress Disorders Treatment Team: Clinical programs (Alice Clark, Ph.D.)

3 p.m.—Travel to Transitional Residence

3:30 p.m.—Tour of residence and discussion of program (Alice Clark, Ph.D.)

4:30 p.m.—Return to hotel

Wednesday 6/27

8:30 a.m.—Pick up at hotel

9 a.m.—New England Shelter for Homeless Veterans: (Tom Lyons) Tour and overview of programs

10:15 a.m.—Break

10:30 a.m.—Update on homeless program for women veterans (Lauren Dever and Meredith Powers)

11:30 a.m.—Travel to Coast Guard Station

12 noon—Lunch/meeting with State Women Veterans Network (Joan O'Connor)

2 p.m.—Travel to Veterans Benefits Administration (VBA)

2:30 p.m.—Meeting at VBA with Fay Norred, Director, and Patty Carter, Women Veterans Coordinator

4 p.m.—Travel to hotel

Thursday 6/28

Brockton Campus

Contact Person: Diane Harness-DiGloria, ANP, VA Boston Healthcare System, 940 Belmont St, Brockton, MA 02401 (508-583-4500 x1435)

8 a.m.—Pick up at hotel

9 a.m.—Arrive Brockton Women's Health Center

9:15 a.m.—Tour and meet with staff

10 a.m.—Break

10:15 a.m.—Women's inpatient psychiatric unit: Tour and meet with staff

11:45 a.m.—Lunch

1 p.m.—Substance Abuse programs

2 p.m.—Town Meeting

4 p.m.—Return to hotel

Friday, 6/29

8 a.m.—Executive Session (In hotel)

10 a.m.—Break

11:45 a.m.—Lunch

2 p.m.—Break

4 p.m.—Adjourn

Dated: June 6, 2001.
By direction of the Secretary.
Ventris C. Gibson,
Committee Management Officer.

[FR Doc. 01-14949 Filed 6-13-01; 8:45 am]

BILLING CODE 8320-01-M